DEPARTMENT OF ENERGY

Federal Energy Regulatory Commission

[Project No. 8615-049]

Fiske Hydro, Inc.; Notice of Intent To Prepare an Environmental Assessment

On September 20, 2023, Fiske Hydro, Inc., licensee, filed an application for surrender of its license for the Fiske Mill Hydroelectric Project No. 8615. The project is located on the Ashuelot River, in the town of Hinsdale, Cheshire County, New Hampshire. The project does not occupy federal lands.

To surrender the project, the licensee proposes to: (1) disconnect the generating units from the utility interconnection point; (2) disconnect the turbine drive shafts, and offer the equipment for sale; (3) install service lines to provide power for future dam operation and security needs; (4) close the intake structure at the north abutment; (5) remove transformers; (6) remove any hydraulic fluids from project equipment; and (7) lock and secure the powerhouse. The turbine-generator units may remain in place until sold. No major physical changes to any project features are planned and no ground disturbance would occur as part of the proposed surrender. The Commission issued public notice of the proposed surrender on July 31, 2024.

This notice identifies Commission staff's intention to prepare an environmental assessment (EA) for the project.¹ The planned schedule for the completion of the EA is February 15, 2025. Revisions to the schedule may be made as appropriate. The EA will be issued and made available for review by all interested parties and a 30-day comment period. All comments filed on the EA will be reviewed by staff and considered in the Commission's final decision on the proceeding.

¹ In accordance with the Council on Environmental Quality's regulations, the unique identification number for documents relating to this environmental review is EAXX-019-20-000-1728548635. 40 CFR 1501.5(c)(4) (2024).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Diana Shannon at 202-502-6136 or diana.shannon@ferc.gov.

Dated: November 1, 2024.
Debbie-Anne A. Reese,
Secretary.

[FR Doc. 2024-25908 Filed 11-6-24; 8:45 am]

BILLING CODE 6717-01-P